DEPARTMENT OF TRANSPORTATION

Federal Aviation Administration

14 CFR Part 39

[Docket No. FAA-2013-1064; Directorate Identifier 2012-NM-101-AD]

RIN 2120-AA64

Airworthiness Directives; Airbus Airplanes

AGENCY: Federal Aviation Administration (FAA), DOT.

ACTION: Notice of proposed rulemaking (NPRM).

SUMMARY: We propose to supersede airworthiness directive (AD) 2005-23-08 that applies to certain Airbus Model A300 B4-605R and B4-622R airplanes; Model A300 F4-605R airplanes; and Model A300 C4-605R Variant F airplanes. AD 2005-23-08 required repetitive inspections to detect cracks of certain attachment holes, installation of new fasteners, follow-on inspections or repair if necessary, and modification of the angle fittings of fuselage frame FR47. Since we issued AD 2005-23-08, we have received reports of cracks found on the horizontal flange of the Frame 47 internal corner angle fitting while accomplishing the modification required by AD 2005-23-08. This proposed AD would add new repetitive ultrasonic inspections for cracks of the center wing box lower panel; and repair if necessary. This proposed AD also removes certain airplanes from the applicability. We are proposing this AD to detect and correct fatigue cracking of the forward fitting of fuselage frame FR47, which could result in reduced structural integrity of the frame.

DATES: We must receive comments on this proposed AD by February 10, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the MCAI, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone: (425) 227-2125; fax: (425) 227-1149.

SUPPLEMENTARY INFORMATION:

Comments Invited

We invite you to send any written relevant data, views, or arguments about this proposed AD. Send your comments to an address listed under the ADDRESSES section. Include “Docket No. FAA-2013-1064; Directorate Identifier 2012-NM-101-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 31, 2005, we issued AD 2005-23-08, Amendment 39-14366 (70 FR 69056, November 14, 2005). That AD required actions intended to address an unsafe condition on certain Model A300 B4-601, B4-603, B4-620, and B4-622 airplanes; Model A300 B4-605R and B4-622R airplanes; Model A300 F4-605R airplanes; and Model A300 C4-605R Variant F airplanes.

Since we issued AD 2005-23-08, Amendment 39-14366 (70 FR 69056, November 14, 2005), the European Aviation Safety Agency (EASA), which is the Technical Agent for the Member States of the European Community, has issued EASA Airworthiness Directive 2012-0092, dated May 25, 2012; correction dated June 4, 2012 (referred to after this as the Mandatory Continuing Airworthiness Information, or “the MCAI”), to correct an unsafe condition for the specified products. The MCAI states:

Prompted by cracks found on the Frame 47 angle fitting, DGAC France published AD 2000-533-328 [(http://ad.easa.europa.eu/ad/F-2000-533-328R1)] to require [a] repetitive inspection programme for fuselage frame 47. If not detected and corrected, these cracks could affect the structural integrity of the Centre Wing Box (CWB) of the aeroplane.

Subsequent to the publication of a new repetitive inspection programme for fuselage frame 47 at certain fasteners of the CWB angle fitting, DGAC France issued AD F-2004-159 [(http://ad.easa.europa.eu/ad/F-2004-159)] [which corresponds to AD 2005-23-08, Amendment 39-14366 (70 FR 69056, November 14, 2005)], superseding AD 2000-533-328.

After DGAC France AD F-2004-159 was issued, cracks were reportedly found on the horizontal flange of the Frame 47 internal corner angle fitting during accomplishment of routine maintenance structural inspection and modification in accordance with Airbus SB A300-57-6050.

Prompted by these findings, Airbus reviewed and amended the inspection programme for the internal lower angle fitting flange (horizontal face). The inspection programme for the lower angle fitting web (vertical face) related to SB A300-57-6049 and internal lower angle fitting modification programme related to SB A300-57-6050 remain unchanged.

For the reasons explained above, this new [EASA] AD retains the requirements of DGAC France AD F-2004-159, which is superseded, and requires additional repetitive [ultrasonic] inspections [for cracks] of the CWB lower panel through the ultrasonic method and, depending on findings, [repair, e.g.,] re-installation of removed fasteners in transition fit instead of interference.

This [EASA] AD has been republished to correct a typographical error * * *.

The repetitive interval for the new ultrasonic inspection is either 1,260 flight cycles or 2,720 flight hours, whichever occurs first; or 1,360 flight cycles or 2,200 flight hours, whichever occurs first; depending on average flight time of the airplane. You may obtain further information by examining the MCAI in the AD docket.

Relevant Service Information

Airbus has issued Mandatory Service Bulletins A300-57-6049, Revision 07, dated December 22, 2006, and A300-57-6086, Revision 05, dated January 30, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between This Proposed AD and the MCAI or Service Information

Although the MCAI and service information specify to contact the manufacturer for instructions to repair certain conditions, this proposed AD would require repairing those conditions using a method approved by the Manager, International Branch, ANM-116, Transport Airplane Directorate, FAA; or the EASA (or its delegated agent; or the Design Approval Holder with EASA's design organization approval), as applicable.

Explanation of Changes to AD 2005-23-08, Amendment 39-14366 (70 FR 69056, November 14, 2005)

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, this proposed AD would require that the repair approval specifically refer to the FAA AD. This change is intended to clarify the method of compliance and to provide operators with better visibility of repairs that are specifically developed and approved to correct the unsafe condition. In addition, we use the phrase “its delegated agent, or by the DAH with State of Design Authority design organization approval, as applicable” in this proposed AD to refer to an DAH authorized to approve required repairs for this proposed AD.

Explanation of Change to Applicability

AD 2005-23-08, Amendment 39-14366 (70 FR 69056, November 14, 2005), includes Airbus Model A300 B4-601 airplanes in the applicability. However, this proposed AD does not include Model A300 B4-601 airplanes because these airplanes are no longer in service.

Costs of Compliance

We estimate that this proposed AD affects about 65 products of U.S. registry.

We estimate the following costs to comply with this proposed AD:

Estimated Costs
Action | Work hours | Average labor rate per hour | Parts | Cost per airplane
Inspection [retained action from existing AD] AD 2005-23-08, Amendment 39-14366 (70 FR 69056, November 14, 2005) | 13 | $85 | $0 | $1,105.
Inspection [retained action from existing AD] AD 2005-23-08, Amendment 39-14366 (70 FR 69056, November 14, 2005) | 30 | 85 | Between $6,637 and $19,091 | Between $9,187 and $21,641, per inspection cycle.
Modification [retained action from existing AD] AD 2005-23-08, Amendment 39-14366 (70 FR 69056, November 14, 2005) | Between 65 and 365 | 85 | $3,370 | Between $8,895 and $34,395.
New ultrasonic inspection | 35 | 85 | Between $11,750 and $18,720 | Between $14,725 and $21,695 per inspection cycle.

We have received no definitive data that would enable us to provide cost estimates for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave., SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2005-23-08, Amendment 39-14366 (70 FR 69056, November 14, 2005) and adding the following new AD:

Airbus: Docket No. FAA-2013-1064; Directorate Identifier 2012-NM-101-AD.

(a) Comments Due Date

We must receive comments by February 10, 2014.

(b) Affected ADs

This AD supersedes AD 2005-23-08, Amendment 39-14366 (70 FR 69056, November 14, 2005).

(c) Applicability

This AD applies to Airbus Model B4-603, B4-620, and B4-622 airplanes; Model A300 B4-605R and B4-622R airplanes; Model A300 F4-605R airplanes; and Model A300 C4-605R Variant F airplanes; certificated in any category; except airplanes on which Airbus Modification 12171 or 12249 has been embodied in production, or on which Airbus Service Bulletin A300-57-6069 has been embodied in service.

(d) Subject

Air Transport Association (ATA) of America Code 57: Wings.

(e) Reason

This AD was prompted by reports of cracks found on the horizontal flange of the Frame 47 internal corner angle fitting while accomplishing the modification required by AD 2005-23-08, Amendment 39-14366 (70 FR 69056, November 14, 2005). We are issuing this AD to detect and correct fatigue cracking of the forward fitting of fuselage frame FR47, which could result in reduced structural integrity of the frame.

(f) Compliance

You are responsible for having the actions required by this AD performed within the compliance times specified, unless the actions have already been done.

(g) Retained Inspections for Attachment Holes on the Internal Angles of the Wing Center Box, and Corrective Action

This paragraph restates the requirements of paragraphs (f), (g), and (h) of AD 2005-23-08, Amendment 39-14366 (70 FR 69056, November 14, 2005), with revised service information. Perform a rotating probe inspection to detect cracking of the applicable attachment holes on the left and right internal angles of the wing center box in accordance with the Accomplishment Instructions of Airbus Service Bulletin A300-57-6049, Revision 06, dated July 15, 2004; or Airbus Mandatory Service Bulletin A300-57-6049, Revision 07, dated December 22, 2006. Do the inspection at the applicable time specified by paragraph 1.E.(2), Accomplishment Timescale, of Airbus Service Bulletin A300-57-6049, Revision 06, dated July 15, 2004; except as required by paragraph (j) of this AD. Repeat the rotating probe inspection specified in this paragraph thereafter at intervals not to exceed the applicable interval specified in Airbus Mandatory Service Bulletin A300-57-6049, Revision 06, dated July 15, 2004, except that all touch-and-go landings must be counted in determining the total number of flight cycles between consecutive inspections. As of the effective date of this AD, only Airbus Mandatory Service Bulletin A300-57-6049, Revision 07, dated December 22, 2006, may be used to accomplish the actions required by this paragraph.

(1) If no cracking is found during any inspection required by paragraph (g) of this AD: Prior to further flight, install new fasteners in accordance with the Accomplishment Instructions of Airbus Service Bulletin A300-57-6049, Revision 06, dated July 15, 2004; or Airbus Mandatory Service Bulletin A300-57-6049, Revision 07, dated December 22, 2006. As of the effective date of this AD, only Airbus Mandatory Service Bulletin A300-57-6049, Revision 07, dated December 22, 2006, may be used to accomplish the actions required by this paragraph.

(2) If any cracking is found during any inspection required by paragraph (g) of this AD: Prior to further flight, perform applicable corrective actions (including reaming, drilling, drill-stopping holes, chamfering, performing follow-on inspections, and installing new or oversize fasteners) in accordance with the Accomplishment Instructions of Airbus Service Bulletin A300-57-6049, Revision 06, dated July 15, 2004; or Airbus Mandatory Service Bulletin A300-57-6049, Revision 07, dated December 22, 2006; except as required by paragraph (k) of this AD. As of the effective date of this AD, only Airbus Mandatory Service Bulletin A300-57-6049, Revision 07, dated December 22, 2006, may be used to accomplish the actions required by this paragraph.

(h) Retained Inspections for Attachment Holes in the Horizontal Flange of the Internal Corner Angle Fitting of Fuselage Frame FR47, and Corrective Action

This paragraph restates the requirements of paragraphs (i), (j), and (k) of AD 2005-23-08, Amendment 39-14366 (70 FR 69056, November 14, 2005), with revised service information. Perform a rotating probe inspection to detect cracking of the applicable attachment holes in the horizontal flange of the internal corner angle fitting of fuselage frame FR47, in accordance with the Accomplishment Instructions of Airbus Service Bulletin A300-57-6086, Revision 01, dated April 2, 2002; or Airbus Mandatory Service Bulletin A300-57-6086, Revision 05, dated January 30, 2012. Do the inspection at the applicable time specified in paragraph 1.E., Compliance, of Airbus Service Bulletin A300-57-6086, Revision 01, dated April 2, 2002, except as provided by paragraph (j) of this AD; or within 1,500 flight cycles after July 8, 2002 (the effective date of AD 2002-11-04, amendment 39-12765 (67 FR 38193, June 3, 2002)); whichever occurs later. Repeat the rotating probe inspection specified in this paragraph thereafter at intervals not to exceed the applicable interval specified in Airbus Service Bulletin A300-57-6086, dated June 6, 2000, except that all touch-and-go landings must be counted in determining the total number of flight cycles between consecutive inspections. As of the effective date of this AD, only Airbus Mandatory Service Bulletin A300-57-6086, Revision 05, dated January 30, 2012, may be used to accomplish the actions required by this paragraph.

(1) If no cracking is found during any inspection required by paragraph (h) of this AD: Prior to further flight, install new fasteners in accordance with the Accomplishment Instructions of Airbus Service Bulletin A300-57-6086, Revision 01, dated April 2, 2002; or Airbus Mandatory Service Bulletin A300-57-6086, Revision 05, dated January 30, 2012. As of the effective date of this AD, only Airbus Mandatory Service Bulletin A300-57-6086, Revision 05, dated January 30, 2012, may be used to accomplish the actions required by this paragraph.

(2) If any cracking is found during any inspection required by paragraph (h) of this AD: Prior to further flight, perform applicable corrective actions (including inspecting hole T if any cracking is found at hole G, reaming the holes, and installing oversize fasteners) in accordance with the Accomplishment Instructions of Airbus Service Bulletin A300-57-6086, Revision 01, dated April 2, 2002; or Airbus Mandatory Service Bulletin A300-57-6086, Revision 05, dated January 30, 2012; except as required by paragraph (k) of this AD. As of the effective date of this AD, only Airbus Mandatory Service Bulletin A300-57-6086, Revision 05, dated January 30, 2012, may be used to accomplish the actions required by this paragraph.

(i) Retained Modification of Angle Fittings of the Wing Center Box

This paragraph restates the requirements of paragraph (l) of AD 2005-23-08, Amendment 39-14366 (70 FR 69056, November 14, 2005). Modify the left and right internal angle fittings of the wing center box. The modification includes performing a rotating probe inspection to detect cracking, repairing cracks, cold expanding holes, and installing medium interference fitting bolts. Perform the modification in accordance with the Accomplishment Instructions of Airbus Service Bulletin A300-57-6050, Revision 03, dated May 31, 2001; and at the applicable time specified by paragraph 1.B.(4), Accomplishment Timescale, of Airbus Service Bulletin A300-57-6050, Revision 03, dated May 31, 2001; except as required by paragraphs (j) and (k) of this AD.

(j) Retained Compliance Time Exception to Service Information Specified in Paragraphs (g), (h), and (i) of This AD

This paragraph restates the requirements of paragraph (m) of AD 2005-23-08, Amendment 39-14366 (70 FR 69056, November 14, 2005). Where the service information specified in paragraphs (g), (h), and (i) of this AD specify a grace period relative to receipt of the service bulletin, this AD requires compliance within the applicable grace period following December 19, 2005, (the effective date of AD 2005-23-08), if the threshold has been exceeded.

(k) Retained Corrective Action Exception to Service Information Specified in Paragraphs (g), (h), and (i) of This AD

This paragraph restates the requirements of paragraph (n) of AD 2005-23-08, Amendment 39-14366 (70 FR 69056, November 14, 2005). If any crack is detected during any inspection required by paragraph (g), (h), or (i) of this AD, and the applicable service information specifies to contact the manufacturer for disposition of certain corrective actions: Prior to further flight, repair in accordance with a method approved by the Manager, International Branch, ANM-116, Transport Airplane Directorate, FAA; or the Direction Générale de l'Aviation Civile (DGAC) (or its delegated agent).

(l) Credit for Previous Actions

(1) This paragraph restates the credit provided by paragraph (o) of AD 2005-23-08, Amendment 39-14366 (70 FR 69056, November 14, 2005): This paragraph provides credit for actions required by paragraph (h) of this AD, if those actions were performed before December 19. 2005, (the effective date of AD 2005-23-08) using Airbus Service Bulletin A300-57-6086, dated June 6, 2000.

(2) This paragraph restates the credit provided by paragraph (p) of AD 2005-23-08, Amendment 39-14366 (70 FR 69056, November 14, 2005): This paragraph provides credit for the modification required by paragraph (i) of this AD, if the modification was performed before December 19, 2005, (the effective date of AD 2005-23-08) using Airbus Service Bulletin A300-57-6050, Revision 02, dated February 10, 2000.

(m) New Requirements of This AD: Repetitive Ultrasonic Inspections and Corrective Action

(1) For airplanes on which Airbus Service Bulletin A300-57-6050, Revision 03, dated May 31, 2001, has not been done, or on which Airbus Modification 10155 has been done: Perform an ultrasonic inspection for cracking of the left- and right-hand aft bottom panel of the center wing box (CWB) in accordance with the Accomplishment Instructions of Airbus Mandatory Service Bulletin A300-57-6086, Revision 05, dated January 30, 2012. Do the inspection at the later of the times specified in paragraphs (m)(1)(i) and (m)(1)(ii) of this AD. If any cracking is found, before further flight, repair using a method approved by the Manager, International Branch, ANM-116, Transport Airplane Directorate, FAA; or EASA (or its delegated agent, or the Design Approval Holder with EASA's design organization approval, as applicable. For a repair method to be approved, the repair approval must specifically refer to this AD. Repeat the inspection thereafter at intervals not to exceed the applicable interval specified in paragraph 1.E.(2), Accomplishment Timescale, of Airbus Mandatory Service Bulletin A300-57-6086, Revision 05, dated January 30, 2012.

(i) Within 13,400 flight cycles or 34,600 flight hours after the first flight of the airplane, whichever occurs first.

(ii) Within 650 flight cycles or 8 months after the effective date of this AD, whichever occurs first.

(2) For airplanes on which Airbus Service Bulletin A300-57-6050, Revision 03, dated May 31, 2001, has been done: Perform an ultrasonic inspection for cracking of the left- and right-hand aft bottom panel of the center wing box (CWB), in accordance with the Accomplishment Instructions of Airbus Mandatory Service Bulletin A300-57-6086, Revision 05, dated January 30, 2012. Do the inspection at the later of the times specified in paragraphs (m)(2)(i) and (m)(2)(ii) of this AD. If any cracking is found, before further flight repair using a method approved by the Manager, International Branch, ANM-116, Transport Airplane Directorate, FAA; or EASA (or its delegated agent, or the Design Approval Holder with EASA's design organization approval), as applicable. For a repair method to be approved, the repair approval must specifically refer to this AD. Repeat the inspection thereafter at intervals not to exceed the applicable interval specified in paragraph 1.E.(2), Accomplishment Timescale, of Airbus Mandatory Service Bulletin A300-57-6086, Revision 05, dated January 30, 2012.

(i) Within 13,400 flight cycles or 34,600 flight hours after accomplishing Airbus Service Bulletin A300-57-6050, whichever occurs first.

(ii) Within 650 flight cycles or 8 months after the effective date of this AD, whichever occurs first.

(n) New Reporting Requirement

Submit a report of the findings (both positive and negative) of the inspection required by paragraph (m) of this AD to the Design Approval Holder, at the applicable time specified in paragraph (n)(1) or (n)(2) of this AD. The report must include the inspection results, a description of any discrepancies found, the airplane serial number, and the number of flight cycles and flight hours on the airplane. The inspection report form in Appendix 01 of Airbus Mandatory Service Bulletin A300-57-6086, Revision 05, dated January 30, 2012, may be used.

(1) If the inspection was done on or after the effective date of this AD: Submit the report within 30 days after the inspection.

(2) If the inspection was done before the effective date of this AD: Submit the report within 30 days after the effective date of this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone: (425) 227-2125; fax: (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2005-23-08, Amendment 39-14366 (70 FR 69056, November 14, 2005), are approved as AMOCs for the corresponding provision of this AD.

(2) Airworthy Product: For any requirement in this AD to obtain corrective actions from a manufacturer, use these actions if they are FAA-approved. Corrective actions are considered FAA-approved if they were approved by the State of Design Authority (or its delegated agent, or the Design Approval Holder with a State of Design Authority's design organization approval), as applicable. For a repair method to be approved, the repair approval must specifically refer to this AD. You are required to ensure the product is airworthy before it is returned to service.

(p) Related Information

(1) Refer to Mandatory Continuing Airworthiness Information EASA Airworthiness Directive 2012-0092, dated May 25, 2012: Correction dated June 4, 2012, for related information. This MCAI may be found in the AD docket on the Internet at http://www.regulations.gov.

(2) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(3) You may review copies of the referenced service information at the FAA, Transport Airplane Directorate, 1601 Lind Avenue SW., Renton, WA. For information on the availability of this material at the FAA, call 425-227-1221.

Issued in Renton, Washington, on December 17, 2013.
Jeffrey E. Duven,
Manager, Transport Airplane Directorate, Aircraft Certification Service.

[FR Doc. 2013-30893 Filed 12-24-13; 8:45 am]

BILLING CODE 4910-13-P